DEPARTMENT OF TRANSPORTATION

National Highway Traffic Safety Administration

[Docket No. NHTSA-2019-0083]

Public Meeting Regarding NHTSA's Research Portfolio

AGENCY: National Highway Traffic Safety Administration (NHTSA), Department of Transportation (DOT).

ACTION: Notice of public meeting.

SUMMARY: NHTSA is announcing a public meeting where the Agency's Vehicle Safety Research and Behavioral Safety Research offices will present information on activities related to the Agency's research programs. Representatives from across the two research offices will present the information and accept questions from the audience after presentations.

DATES: NHTSA will hold the public meeting on November 20-21, 2019, from 8:30 a.m. to 4:00 p.m., Eastern Standard Time on November 20, and 8:30 a.m. to 12 p.m., Eastern Standard Time on November 21. Check-in (through security) will begin at 7:30 a.m. both days. Attendees should arrive early enough to enable them to go through security by 8:20 a.m. The public docket will remain open for 90 days following the conclusion of the public meeting.

ADDRESSES: The public meeting will be held at the DOT headquarters building located at 1200 New Jersey Avenue SE, Washington, DC 20590 (Green Line Navy Yard/Ballbark Metro station) in the West Building Atrium. This facility is accessible to individuals with disabilities. The meeting will also be recorded and made available after the event for offline viewing (no planned live broadcast) at https://www.nhtsa.gov/events-and-public-meetings.

FOR FURTHER INFORMATION CONTACT: If you have questions about the public meeting, please contact Lisa Floyd at 202-366-4697, by email at Lisa.Floyd@dot.gov, or by US Mail at NHTSA's Department of Transportation, 1200 New Jersey Ave. SE, Washington, DC 20590.

SUPPLEMENTARY INFORMATION: Registration is recommended for all attendees. Attendees should register at https://www.surveymonkey.com/r/NHTSAResearchPortfolio2019 by November 13, 2019. Please provide name, affiliation, email, and indicate whether you need special accommodations. Space is limited, so advance registration is highly encouraged.

NHTSA DOT is committed to providing equal access to this meeting for all participants. If you need accommodation because of a disability, please contact Lisa Floyd at 202-366-4697, or via email at Lisa.Floyd@dot.gov, with your request by close of business November 13, 2019. Should it be necessary to cancel or reschedule the meeting due to inclement weather or emergency, NHTSA will take all available measures to notify registered participants as soon as possible.

NHTSA will conduct the public meeting informally, and technical rules of evidence will not apply. We will arrange for a written transcript of the meeting and keep the official record open for 90 days after the meeting to allow submission of public comments and supplemental information. You may make arrangements for copies of the transcripts directly with the court reporter, and the transcript will also be posted in the docket when it becomes available.

Written Comments: Written comments can be submitted during the 90-day comment period. Please submit all written comments no later than February 20, 2019, following the close of the public meeting by any of the following methods:

• Federal Rulemaking Portal: Go to http://www.regulations.gov. Follow the online instructions for submitting comments.

• Mail: Docket Management Facility: US Department of Transportation, 1200 New Jersey Avenue SE, West Building Ground Floor, Room W12-140, Washington, DC 20590-0001.

• Hand Delivery or Courier: 1200 New Jersey Avenue SE, West Building Ground Floor, Room W12-140, Washington, DC 20590-0001, between 9 a.m. and 5 p.m. ET, Monday through Friday, except Federal Holidays.

• Fax: 202-366-1767.

Instructions: All submissions must include the agency name and docket number. Note that all comments received will be posted without change to http://www.regulations.gov, including any personal information provided. Please see the Privacy Act discussion below.

Docket: For access to the docket go to http://www.regulations.gov at any time or to 1200 New Jersey Avenue SE, West Building, Ground Floor, Room W12-140, Washington, DC 20590 between 9 a.m. and 5 p.m., Monday through Friday, except Federal Holidays. Telephone: 202-366-9826.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://www.regulations.gov/privacy.html.

Confidential Business Information: If you wish to submit any information under a claim of confidentiality, you should submit three copies of your complete submission, including the information you claim to be confidential business information to the Chief Counsel, NHTSA, at 1200 New Jersey Avenue SE, Washington, DC 20590. In addition, you should submit two copies, from which you have deleted the claimed confidential business information, to Docket Management at the address given above. When you send a comment containing information claimed to be confidential business information, you should submit a cover letter setting forth the information specified in our confidential business information regulation (49 CFR part 512).

Background: Each year, NHTSA executes a broad array of research programs in support of agency priorities. The Agency's research portfolio covers program areas pertaining to vehicle safety, including safety countermeasures implemented through the vehicle, components, operation and use, among others, and behavioral safety, which includes safety countermeasures that pertain to the behavior and actions of the driver, occupant, and other road users.

The public meeting is intended to provide public outreach regarding research activities at NHTSA for both vehicle and behavioral safety, including expected near term deliverables. NHTSA technical research staff will discuss projects underway and allow time for meeting attendees to ask questions. There will be display information available and posters illustrating select research activities and staff available for discussion.

The Agency invites comments on the information presented regarding research priorities, research goals, and additional research gaps/needs the public may believe NHTSA should be addressing. Select project work may be posted to the docket for which comments are also welcome. Slides presented at the public meeting will be posted to the docket subsequently for public viewing and a recording of the meeting will be made available after the event for offline viewing (no planned live broadcast).

Issued in Washington, DC under authority delegated by 49 CFR 1.95.
Cem Hatipoglu,
Associate Administrator for Vehicle Safety Research.

[FR Doc. 2019-22130 Filed 10-9-19; 8:45 am]

BILLING CODE 4910-59-P